DEPARTMENT OF HOMELAND SECURITY

Coast Guard

[Docket No. USCG-2022-0577; OMB Control Number 1625-0027]

Information Collection Request to Office of Management and Budget

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting an extension of its approval for the following collection of information: 1625-0027, Vessel Documentation; without change. Our ICR describes the information we seek to collect from the public. Before submitting this ICR to OIRA, the Coast Guard is inviting comments as described below.

DATES: Comments must reach the Coast Guard on or before January 17, 2023.

ADDRESSES: You may submit comments identified by Coast Guard docket number [USCG-2022-0577] to the Coast Guard using the Federal eRulemaking Portal at https://www.regulations.gov. See the “Public participation and request for comments” portion of the SUPPLEMENTARY INFORMATION section for further instructions on submitting comments.

A copy of the ICR is available through the docket on the internet at https://www.regulations.gov. Additionally, copies are available from: Commandant (CG-6P), ATTN: Paperwork Reduction Act Manager, U.S. Coast Guard, 2703 Martin Luther King Jr. Ave. SE, STOP 7710, Washington, DC 20593-7710.

FOR FURTHER INFORMATION CONTACT: A.L. Craig, Office of Privacy Management, telephone 202-475-3528, or fax 202-372-8405, for questions on these documents.

SUPPLEMENTARY INFORMATION:

Public Participation and Request for Comments

This notice relies on the authority of the Paperwork Reduction Act of 1995; 44 U.S.C. 3501 et seq., chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) the practical utility of the Collection; (2) the accuracy of the estimated burden of the Collection; (3) ways to enhance the quality, utility, and clarity of information subject to the Collection; and (4) ways to minimize the burden of the Collection on respondents, including the use of automated collection techniques or other forms of information technology.

In response to your comments, we may revise this ICR or decide not to seek an extension of approval for the Collection. We will consider all comments and material received during the comment period.

We encourage you to respond to this request by submitting comments and related materials. Comments must contain the OMB Control Number of the ICR and the docket number of this request, [USCG-2022-0577], and must be received by January 17, 2023.

Submitting Comments

We encourage you to submit comments through the Federal eRulemaking Portal at https://www.regulations.gov. If your material cannot be submitted using https://www.regulations.gov, contact the person in the FOR FURTHER INFORMATION CONTACT section of this document for alternate instructions. Documents mentioned in this notice, and all public comments, are in our online docket at https://www.regulations.gov and can be viewed by following that website's instructions. Additionally, if you go to the online docket and sign up for email alerts, you will be notified when comments are posted.

We accept anonymous comments. All comments received will be posted without change to https://www.regulations.gov and will include any personal information you have provided. For more about privacy and submissions in response to this document, see DHS's eRulemaking System of Records notice (85 FR 14226, March 11, 2020).

Information Collection Request

Title: Vessel Documentation.

OMB Control Number: 1625-0027.

Summary: The information collected will be used to establish the eligibility of a vessel to: (a) be documented as a “vessel of the United States,” (b) engage in a particular trade, and/or (c) become the object of a preferred ship's mortgage. The information collected concerns citizenship of owner/applicant and build, tonnage and markings of a vessel.

Need: 46 U.S.C. Chapters 121, 123, 125 and 313 requires the documentation of vessels. A Certificate of Documentation is required for the operation of a vessel in certain trades, serves as evidence of vessel nationality and permits a vessel to be subject to preferred mortgages.

Forms

• CG-1258, Application for Initial, Exchange, or Replacement of Certificate of Documentation; Redocumentation with optional attachments.

• CG-1261, Builder's Certification and First Transfer of Title.

• CG-1270, Certificate of Documentation.

• CG-1280, Vessel Renewal Notification Application for Renewal.

• CG-1330, Certificate of Ownership of Vessel.

• CG-1332, General Index or Abstract of Title.

• CG-1340, Bill of Sale.

• CG-1356, Bill of Sale by Government Entity Pursuant to Court Order of Administrative Degree of Forfeiture.

• CG-4593, Application, Consent, and Approval for Withdrawal of Application for Documentation or Exchange of Certificate of Documentation.

• CG-5542, Optional Application for Filing.

• CG-7042, Authorization for Credit Card Transactions.

• CG-7043, Abstract of Title/Certified COD Request.

Why is the Coast Guard proposing to add two new forms: The Coast Guard is adding optional forms CG-1330 and CG-1332 to provide a standardized means of delivering information about documented U.S. vessels. A Certificate of Ownership of Vessel (CG-1332) provides the name and official number of a vessel, name and address of the last owner of record, the Certificate of Documentation expiration date, any outstanding mortgages, preferred mortgages, and notice of lien. Additionally, it lists any pending application and or instruments filed. A General Index or Abstract of Title (CG-1330) contains information concerning build, ownership, and encumbrances or liens filed and recorded against a vessel.

Respondents: Owners/builders of yachts and commercial vessels of at least 5 net tons.

Frequency: Annually, and on occasion.

Hour Burden Estimate: The estimated burden has increased from 50,844 hours to 84,443 hours, due to an increase in the estimated number of responses. In addition, the estimated burden has increased by 5,883 hours, due to the addition of two new optional forms—CG-1330, Certificate of Ownership of Vessel and CG-1332, General Index or Abstract of Title. The total estimated burden is 90,326 hours.

Authority: The Paperwork Reduction Act of 1995; 44 U.S.C. chapter 35, as amended.

Dated: November 4, 2022.
Kathleen Claffie,
Chief, Office of Privacy Management, U.S. Coast Guard.

[FR Doc. 2022-24785 Filed 11-14-22; 8:45 am]

BILLING CODE 9110-04-P